DEPARTMENT OF AGRICULTURE

Rural Business-Cooperative Service

Request for Proposals: Fiscal Year 2006 Funding Opportunity for Research on the Economic Impact of Cooperatives

AGENCY: Rural Business-Cooperative Service, USDA.

ACTION: Initial Notice of Request for Proposals.

SUMMARY: Rural Business-Cooperative Service programs are administered through USDA Rural Development. USDA Rural Development announces the availability of approximately $495,000 in competitive cooperative agreement funds for fiscal year (FY) 2006 to conduct research on the national economic impact of all types of cooperatives. USDA Rural Development hereby requests proposals from institutions of higher education interested in applying for a competitively awarded cooperative research agreement. The intent of the funding is to encourage research on the critical issue of the economic value of cooperatives.

DATES: Interested parties may submit completed applications for the cooperative agreement on paper or electronically according to the following deadlines:

Paper copies must be postmarked and mailed, shipped, or sent overnight no later than August 30, 2006, to be eligible for FY 2006 funding. Electronic copies must be received by August 30, 2006, to be eligible for FY 2006 funding. Late applications are not eligible for FY 2006 funding.

ADDRESSES: Applicants may obtain application forms, guides, and materials for the cooperative agreement at http://www.rurdev.usda.gov/rbs/coops/reic.htm or by contacting USDA Rural Development at (202) 690-0368, (TDD: (800) 877-8339, Federal Information Relay Service) and ask for the cooperative research agreement application kit.

Submit completed paper applications for a cooperative agreement to USDA Rural Development's Cooperative Programs, Attn: Cooperative Research, Mail STOP 3250, Room 4016—South, 1400 Independence Avenue SW., Washington, DC 20250-3250. The phone number that should be used for FedEx packages is (202) 720-7558.

Submit electronic applications at http://www.grants.gov, following the instructions found on this Web site.

FOR FURTHER INFORMATION CONTACT: Visit the program Web site at http://www.rurdev.usda.gov/rbs/coops/reic.htm, which contains application guidance, including an Application Guide and application forms. Or you may contact USDA Rural Development at (202) 690-0368 (TDD: (800) 877-8339 Federal Information Relay Service).

SUPPLEMENTARY INFORMATION:

Paperwork Reduction Act

Under the Paperwork Reduction Act, 44 U.S.C. 3501 et seq., OMB must approve all “collections of information” by USDA Rural Development. The Act defines “collection of information” as a requirement for “answers to * * * identical reporting or recordkeeping requirements imposed on ten or more persons * * *.” (44 U.S.C. 3502(3)(A)) Because the RFP will receive less than 10 respondents, the Paperwork Reduction Act does not apply.

Overview

Federal Agency: Rural Business-Cooperative Service.

Funding Opportunity Title: Research on the Economic Impact of Cooperatives.

Announcement Type: Initial announcement.

Catalog of Federal Domestic Assistance Number: 10.778.

Dates: You may submit completed applications for the cooperative agreement on paper or electronically according to the following deadlines:

Paper copies must be postmarked and mailed, shipped, or sent overnight no later than August 30, 2006, to be eligible for FY 2006 funding. Late applications are not eligible for FY 2006 funding.

Electronic copies must be received by August 30, 2006, to be eligible for FY 2006 funding. Late applications are not eligible for FY 2006 funding.

The Paperwork Reduction Act of 1995 (Pub. L. 104-13): There is no public reporting burden associated with this notice.

I. Funding Opportunity Description

This solicitation is issued pursuant to the Agriculture, Rural Development, Food and Drug Administration, and Related Agencies Appropriations Act, 2006 (Pub. L. 109-97 ), as amended by the Department of Defense Appropriations Act, 2006 (Pub. L. 109-148) directing funds “for a cooperative research agreement with a qualified academic institution to conduct research on the national economic impact of all types of cooperatives.” The Secretary of Agriculture has delegated the program's administration to USDA Rural Development.

The primary objective of this cooperative research agreement program is to facilitate university research on the national economic impact of cooperatives. The research program will need to develop a methodology for collecting and assembling basic impact data on a periodic basis; apply the methodology to collect data and estimate economic impact of cooperatives; estimate cooperative specific community impact multipliers; and conduct other appropriate studies to examine the cumulative economic impact of cooperatives on their local communities.

The cooperative agreement proposal must address the following deliverables:

1. Development of a methodology for collection and assembly of basic impact data on a periodic basis. This methodology will need to account for cooperative organizational complexity, such as a single organization's several local, regional, and national locations, as well as sector differences.

2. Application of the developed methodology, by major sector, to collect data and estimate economic impact of cooperatives. Data items to be collected/measured must include:

• Number and location of cooperatives,

• Volume measures appropriate for each sector (revenues, dollar value, and other appropriate size indicators),

• Number of persons impacted by the cooperative (members, patrons, or investors), and

• Number of full-time equivalent jobs and other economic impact variables.

Sectors for which summary data should be prepared include:

• Housing,

• Health care,

• Daycare/elder care,

• Financial services,

• Grocery/consumer retail,

• Business-to-business (wholesaling, manufacturing),

• Agricultural marketing (including organic and conventional),

• Agricultural supplies and services,

• Public services (including transportation and education),

• Biofuels, and

• Utilities.

3. Creation and population of a database for individual cooperative and summary data collected. Database is to be delivered to USDA Rural Development.

4. Estimation of cooperative specific community impact multipliers for each of the following four categories or classes of cooperatives:

i. Commercial sales or marketing—includes farm supply and marketing, grocery and consumer goods, business-to-business, emerging ethanol and biofuels related industry, and manufacturing.

ii. Social and public services—includes housing, health care, day care/ elder care, transportation, and educational services.

iii. Financial services—includes credit unions, banks, and mutual insurance.

iv. Utilities—includes electric, telephone, water, waste, and other regulated utilities.

5. Performance of subcontracting services, oversight, and financial controls for the overall project.

6. Submission of quarterly progress reports and quarterly financial reports to USDA Rural Development.

7. Preparation and submission of publishable quality written reports for Deliverables 2 and 4 to USDA Rural Development.

USDA Rural Development will competitively award one cooperative agreement to fund the collection and analysis of data to determine the national economic impact of cooperatives. An institution of higher education may subcontract or collaborate with others on the research and data collection. A formal consortium of academic institutions is allowed.

Definitions

The definitions at 7 CFR 3019.2 are incorporated by reference.

II. Award Information

Type of Award: Cooperative Agreement.

Fiscal Year Funds: FY 2006.

Approximate Total Funding: $495,000.

Approximate Number of Awards: 1.

Approximate Average Award: $495,000.

Floor of Award Range: None.

Ceiling of Award Range: $495,000.

Anticipated Award Date: September 15, 2006.

Budget Period Length: 24 months.

Project Period Length: 24 months.

III. Eligibility Information

A. Eligible Applicants

Applicants must be institutions of higher education. Proposals may be submitted by public or private colleges or universities, research foundations maintained by a college or university, or private nonprofit organizations funded by a group of colleges or universities. Under the Lobbying Disclosure Act of 1995, an organization described in section 501(c)(4) of the Internal Revenue Code of 1986 (26 U.S.C. 501(c)(4)) which engages in lobbying activities, is not eligible to apply.

B. Cost Sharing or Matching

Matching funds are not required but are highly encouraged. Applicants must verify in their applications that matching funds are available for the time period of the agreement if the matching funds are required to complete the project. Matching funds must be provided by either the applicant or by a third party in the form of cash or in-kind contributions. Matching funds must be spent on eligible expenses and must be from eligible sources.

C. Other Eligibility Requirements

Indirect Cost Eligibility: Public Law 109-97, Sec. 708 states “No funds appropriated by this Act may be used to pay negotiated indirect cost rates on cooperative agreements or similar arrangements between the United States Department of Agriculture and nonprofit institutions in excess of 10 percent of the total direct cost of the agreement when the purpose of such cooperative arrangements is to carry out programs of mutual interest between the two parties.” Indirect costs in excess of 10 percent of the direct cost, therefore, will be ineligible for funding.

Activity Eligibility: A cooperative agreement reflects a relationship between the United States Government and an eligible recipient where the principal purpose of the relationship is the transfer of money, property, services, or anything of value to the eligible recipient to carry out the desired research; and substantial involvement is anticipated between USDA Rural Development acting for the United States Government and the eligible recipient during the performance of the research in the agreement. A cooperative agreement is not a grant. Therefore, the project proposed must include a description of USDA Rural Development's substantial participation. USDA Rural Development may subsequently negotiate its participation before the cooperative agreement is executed.

Applicants that propose budgets that include more than 10 percent of total project costs that are ineligible for the program will be ineligible, and the application will not be considered for funding. However, if an application with 10 percent or less of ineligible costs is selected for funding, all ineligible costs must be removed from the project and replaced with eligible activities or the amount of the award will be reduced accordingly.

Cooperative Agreement Period Eligibility: Applications that have a timeframe of more than 24 months will be considered ineligible and will not be considered for funding. Applications that request funds for a time period ending after September 30, 2008, will not be considered for funding.

Completeness Eligibility: Applications without sufficient information to determine eligibility will not be considered for funding. Applications that are missing any required elements (in whole or in part) will not be considered for funding.

IV. Application and Submission Information

A. Address to Request Application Package

If you plan to apply using a paper application, you can obtain the application package for this funding opportunity at http://www.rurdev.usda.gov/rbs/coops/reic.htm. If you do not have access to the Internet, or if you have difficulty accessing the forms online, you may contact the National Office by calling (202) 690-0368 (TDD: (800) 877-8339 Federal Information Relay Service). Application forms can be mailed to you. If you plan to apply electronically, you must visit http://www.grants.gov and follow the instructions.

B. Content and Form of Submission

You may submit your application in paper or in an electronic format. You may view the Application Guide at http://www.rurdev.usda.gov/rbs/coops/reic.htm.

If you submit your application in paper form, you must submit one signed original of your complete application along with two additional copies.

If you submit your application electronically, you must follow the instructions given at http://www.grants.gov. Applicants are advised to visit the site well in advance of the application deadline if they plan to apply electronically to insure that they have obtained the proper authentication and have sufficient computer resources to complete the application.

An application must contain all of the following elements. Any application that is missing any element or contains an incomplete element will not be considered for funding:

1. Form SF-424, “Application for Federal Assistance.” In order for this form to be considered complete, it must contain the legal name of the applicant, the applicant's Dun and Bradstreet Data Universal Numbering System (DUNS) number, the applicant's complete mailing address, the name and telephone number of a contact person, the employer identification number (EIN), the start and end dates of the project, the Federal funds requested, other funds that will be used as matching funds, an answer to the question, “Is applicant delinquent on any Federal debt?”, the name and signature of an authorized representative, the telephone number of the authorized representative, and the date the form was signed. Other information requested on the form may be applicable, but the above-listed information is required for an application to be considered complete.

The DUNS number is a nine-digit identification number, which uniquely identifies business entities. Applicants can receive a DUNS number at no cost by accessing http://www.dnb.com/us/ or calling (866) 705-5711.

2. Form SF-424A, “Budget Information—Non-Construction Programs.” In order for this form to be considered complete, the applicant must fill out Sections A, B, C, and D. The applicant must include both Federal and any matching funds to be included.

3. Form SF-424B, “Assurances—Non-Construction Programs.” In order for this form to be considered complete, the form must be signed by an authorized official and include the title, name of applicant, and date.

4. Title Page. The title page must include the title of the project as well as any other relevant identifying information. The length should not exceed one page.

5. Table of Contents. For ease of locating information, each proposal must contain a detailed Table of Contents immediately following the title page.

6. Executive Summary. A summary of the proposal, not to exceed one page, must briefly describe the project, including goals, tasks to be completed, and other relevant information that provides a general overview of the project. In the event an applicant submits more than one page for this element, only the first page submitted will be considered.

7. Eligibility Discussion. A detailed discussion, not to exceed four pages, will describe how the applicant meets the eligibility requirements. In the event that more than four pages are submitted, only the first four pages will be considered.

i. Applicant Eligibility. The applicant must first describe how it meets the definition of an institution of higher education.

ii. Purpose Eligibility. The applicant must describe how the project purpose is eligible for funding. The project purpose is comprised of two components. First, the applicant must describe how the proposed project consists of activities needed to determine the national economic impact of all types of cooperatives. Second, the applicant must demonstrate that the combined activities are sufficient to estimate the national economic impact of all types of cooperatives.

8. Proposal Narrative. The narrative must include the following information:

i. Project Title. The title of the proposed project must be brief, not to exceed 75 characters, yet describe the essentials of the project. It should match the project title submitted on the SF-424. The project title does not need to appear on a separate page. It can be included on the title page and/or on the information sheet.

ii. Information Sheet. A separate one-page information sheet listing each of the evaluation criteria referenced in this funding announcement followed by the page numbers of all relevant material contained in the proposal that address or support each criterion.

iii. Goals of the Project. A clear statement of the ultimate goals of the project must be included. There must be an explanation of how economic benefit will be measured.

iv. Workplan. The narrative must contain a description of the project and set forth the tasks involved in reasonable detail. The description should specify the activity, who will perform the activity, during what timeframe the activity will take place, and the cost of the activity. Please note that one of the proposal evaluation criteria evaluates the workplan and budget. Applicants should only submit the workplan and budget once, either in this section or as part of the workplan/budget evaluation criterion discussion.

v. Proposal Evaluation Criteria. Each of the proposal evaluation criteria referenced in this funding announcement must be addressed, specifically and individually, in narrative form.

9. Certification of Judgment. Applicants must certify that the United States has not obtained a judgment against them. No Federal funds shall be used to pay a judgment obtained by the United States. It is suggested that applicants use the following language for the certification. “[INSERT NAME OF APPLICANT] certifies that the United States has not obtained a judgment against it.” A separate signature is not required.

10. Verification of Matching Funds. Applicants must provide a budget to support the workplan showing all sources and uses of funds during the project period. Applicants will be required to verify any and all matching funds, both cash and in-kind. All proposed matching funds must be specifically documented in the application. If the matching funds are to be provided by an in-kind contribution from the applicant, the application must include a signed letter from an authorized representative of the applicant verifying the goods or services to be donated, when the goods and services will be donated, and the value of the goods or services. Applicants should note that only goods or services for which no expenditure is made can be considered in-kind. If the applicant is paying for goods and services as part of the matching funds contribution, the expenditure is considered a cash match, and should be verified as such. If the matching funds are to be provided by a third party in cash, the application must include a signed letter from that third party verifying how much cash will be donated and when it will be donated. Verification for funds donated outside the proposed time period of the cooperative agreement will not be accepted. If the matching funds are to be provided by a third party in-kind donation, the application must include a signed letter from the third party verifying the goods or services to be donated, when the goods and services will be donated, and the value of the goods or services. Verification for in-kind contributions donated outside the proposed time period of the cooperative agreement will not be accepted. Verification for in-kind contributions that are over-valued will not be accepted. The valuation process for the in-kind funds does not need to be included in the application, especially if it is lengthy, but the applicant must be able to demonstrate how the valuation was achieved at the time of notification of tentative selection for the award. If the applicant cannot satisfactorily demonstrate how the valuation was determined, the award may not be made.

If matching funds are in cash, they must be spent on goods and services that are eligible expenditures for this cooperative agreement program. If matching funds are in-kind contributions, the donated goods or services must be considered eligible expenditures for this program. The matching funds must be spent or donated during the agreement period. Some examples of acceptable uses for matching funds are: labor performing work required for the proposed project, office supplies, and travel expenses. Some examples of unacceptable uses of matching funds are: land, fixed equipment, buildings, vehicles, political activities, costs of preparing the application, and costs incurred prior to the effective date of the cooperative agreement. (See 7 CFR parts 3015 and 3019 for funds use eligibility rules.)

If acceptable verification for all proposed matching funds is missing from the application by the application deadline, the application will receive zero points for the Funding Match part of the evaluation criteria.

C. Submission Dates and Times

Application Deadline Date: August 30, 2006.

Explanation of Deadlines: Paper applications must be postmarked by the deadline date (see Section IV.F. for the address). Final electronic applications must be received by http://www.grants.gov by the deadline date. If your application does not meet the deadline above, it will not be considered for funding. You will be notified whether or not your application was received on time.

D. Intergovernmental Review of Applications

Executive Order (EO) 12372, Intergovernmental Review of Federal Programs, does not apply to this program.

E. Funding Restrictions

Funding restrictions apply to both Federal funds and matching funds. Funds may only be used for activities related to determining the economic impact of cooperatives.

No funds made available under this solicitation shall be used to:

1. Plan, repair, rehabilitate, acquire, or construct a building or facility, including a processing facility;

2. Purchase, rent, or install fixed equipment, including processing equipment;

3. Purchase vehicles, including boats;

4. Pay for the preparation of the cooperative agreement application;

5. Pay expenses not directly related to the funded project;

6. Fund political or lobbying activities;

7. Fund any activities prohibited by 7 CFR parts 3015 or 3019;

8. Fund architectural or engineering design work for a specific physical facility;

9. Purchase land;

10. Duplicate current services or replace or substitute support previously provided;

11. Pay costs of the project incurred prior to the date of agreement approval;

12. Pay for assistance to any private business enterprise which does not have at least 51 percent ownership by those who are either citizens of the United States or reside in the United States after being legally admitted for permanent residence; or

13. Pay any judgment or debt owed to the United States.

F. Other Submission Requirements

You may submit your paper application for a cooperative agreement to USDA Rural Development's Cooperative Programs, Attn: Cooperative Research, Mail STOP 3250, Room 4016-South, 1400 Independence Ave. SW., Washington, DC 20250-3250. The phone number that should be used for FedEx packages is (202) 720-7558. You may also choose to submit your application electronically at http://www.grants.gov. Final applications may not be submitted by electronic mail, facsimile, or by hand-delivery. Each application submission must contain all required documents in one envelope, if by mail or express delivery service.

V. Application Review Information

A. Criteria

All eligible and complete applications will be evaluated based on the following criteria and maximum point allowances. Failure to address any one of the following criteria by the application deadline will result in a determination of incomplete and the application will not be considered for funding. The total points available for the set of criteria are 100.

1. Relevance of the project proposal (30 points). Proposals will be evaluated on how directly they address the stated objective of demonstrating economic impact of all types of cooperatives in the United States. Factors to be weighed by evaluators in scoring a proposal's relevance will include:

• Definition of clear and objective measures of impact;

• Definition of specific measurement strategies for obtaining impact measures from each major cooperative sector and each category of persons impacted by cooperatives;

• Description of sound data collection and analysis methodology; and

2. Quality of Workplan (30 points). The quality evaluations will be based on whether the proposal outlines a sound plan of work that will meet the objectives in a timely and cost-efficient manner. Factors to be weighed by evaluators in scoring a proposal's workplan will include:

• How well the steps for carrying out the work are defined;

• The logic of the sequence of proposed steps and the likelihood they will achieve their intended result;

• The establishment of clear benchmarks and timetables to measure progress of the project;

• The detail, accuracy, and reasonableness of the project's proposed budget; and

3. Quality of personnel and management plan (20 points). The quality of the management plan and the personnel involved in carrying out the proposed project will be evaluated in terms of the capabilities of individuals and institutions to carry out assigned roles in an effective manner. Factors to be weighed by evaluators in scoring a proposal's personnel and management plan will include:

• Experience of project leaders and the lead institution in managing complex research projects;

• Clear understanding of business models and general economic development

• Evidence of management controls, progress measurements, and reporting systems within a structured project management plan; and

• Experience and relevant skills of researchers, consultants, and subcontractors assigned to carry out specific roles in the project.

4. Funding match and cooperative community support (20 points). Points will be awarded on the basis of the percentage match provided by the applicant and the level of support for the proposal from the cooperative community as evidenced by contribution of resources to the match and other indications of support.

• Up to 20 points will be awarded for matching funds provided by or arranged for by the applicant. Two points will be awarded for each 5 percent match, up to a maximum of 20 points for a 50 percent match.

B. Review and Selection Process

Each application will be initially reviewed by Rural Development personnel for eligibility and to determine whether all required elements are complete. A list of required elements follows:

• SF-424.

• SF-424A.

• SF-424B.

• Title Page.

• Table of Contents.

• Executive Summary.

• Applicant Eligibility Discussion.

• Purpose Eligibility Discussion.

• Project Title.

• Information Sheet.

• Goals of the Project.

• Work Plan.

• Proposal Evaluation Criterion 1.

• Proposal Evaluation Criterion 2.

• Proposal Evaluation Criterion 3.

• Proposal Evaluation Criterion 4.

• Certification of Judgment.

• Verification of any Matching Funds.

Any incomplete or ineligible applications will not be further evaluated or considered for funding.

All eligible and complete proposals will be evaluated by a team of at least three reviewers based on criteria 1 through 4 described in paragraph A of this section. Reviewers will represent the Rural Development broad mission area, and will include at least three employees of USDA.

Once the scores for criteria 1 through 4 have been independently completed by the three reviewers, the scores will be used to rank the proposals. If the three reviewers rank the best proposal differently then, with the aid of a facilitator, the three reviewers will develop a consensus ranking. If the three reviewers cannot reach a consensus, two additional reviewers will review the proposals and be added to the rankings. A final ranking will be obtained based on the consensus rankings of the three member review panel, or the average of the five reviewers' rankings. Final award recommendation will be sent to the Under Secretary for Rural Development for final selection concurence.

After the award selection is made, all applicants will be notified of the status of their applications by mail. The awardee must meet all statutory and regulatory program requirements in order to receive their award. In the event that an awardee cannot meet the requirements, the award will be withdrawn.

C. Anticipated Announcement and Award Dates

Award Date: The announcement of award selection is expected to occur on or about September 15, 2006.

VI. Award Administration Information

A. Award Notices

The successful applicant will receive a notification of tentative selection for funding from USDA Rural Development. The applicant must sign a mutually agreed to cooperative agreement and comply with all applicable statutes, regulations, and this notice before the award will receive final approval.

Unsuccessful applicants will receive notification, including mediation procedures and appeal rights, by mail.

B. Administrative and National Policy Requirements

This award is subject to 7 CFR parts 3015 and 3019. These regulations may be accessed at http://www.access.gpo.gov/nara/cfr/cfr-table-search.html#page1.

The following additional documentation requirements apply to the awardee selected for this program:

• Cooperative Agreement

• Form RD 1940-1, “Request for Obligation of Funds”

• Form AD-1047, “Certification Regarding Debarment, Suspension, and Other Responsibility Matters-Primary Covered Transactions”

• Form AD-1048, “Certification Regarding Debarment, Suspension, Ineligibility and Voluntary Exclusion-Lower Tier Covered Transactions”

• Form AD-1049, “Certification Regarding a Drug-Free Workplace Requirements (Grants)”

• Form RD 400-1, “Equal Opportunity Agreement”

• Form RD 400-4, “Assurance Agreement”

Additional information on these requirements can be found at http://www.rurdev.usda.gov/rbs/coops/reic.htm.

Reporting Requirements: You must provide USDA Rural Development with an original or an electronic copy that includes all required signatures of the following reports. The reports should be submitted to the Agency contact listed on your Cooperative Agreement. Failure to submit satisfactory reports on time may result in suspension or termination of your award.

1. Form SF-269 or SF-269A. A “Financial Status Report,” listing expenditures according to agreed upon budget categories, on a quarterly basis. Reporting periods end each December 31, March 31, June 30, and September 30. Reports are due 30 days after the reporting period ends.

2. Quarterly performance reports that compare accomplishments to the objectives stated in the proposal. Identify all tasks completed to date and provide documentation supporting the reported results. If the original schedule provided in the workplan is not being met, the report should discuss the problems or delays that may affect completion of the project. Objectives for the next reporting period should be listed. Compliance with any special condition on the use of award funds should be discussed. Reporting periods end each December 31, March 31, June 30, and September 30. Reports are due 30 days after the reporting period ends. Supporting documentation must also be submitted for completed tasks. The supporting documentation for completed tasks include, but are not limited to, questionnaire or interview guides, publications of research findings, summaries of data collected, and any other documentation related to how funds were spent.

3. Final Project performance reports that compare accomplishments to the objectives stated in the proposal. Identify all tasks completed and provide documentation supporting the reported results. If the original schedule provided in the workplan was not met, the report must discuss the problems or delays that affected completion of the project. Compliance with any special condition on the use of award funds should be discussed. Supporting documentation for completed tasks must also be submitted. The supporting documentation for completed tasks include, but are not limited to, publications of research findings, summaries of data collected, documentation of data and software delivered to USDA Rural Development, and any other documentation related to how funds were spent. The final performance report is due within 90 days of the completion of the project.

VII. Agency Contacts

For general questions about this announcement and for program technical assistance, please contact the USDA Rural Development's Cooperative Programs, Mail STOP 3250, Room 4016-South, 1400 Independence Avenue, SW., Washington, DC 20250-3250, Telephone: (202) 690-0368 (TDD: (800) 877-8339 Federal Information Relay Service), e-mail: cpgrants@wdc.usda.gov.

VIII. Non-Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, S.W., Washington, DC. 20250-9410, or call (800) 795-3272 (voice), or (202) 720-6382 (TDD). “USDA is an equal opportunity provider, employer, and lender.”

Dated: July 25, 2006.
Jackie J. Gleason,
Acting Administrator, Rural Business-Cooperative Service.

[FR Doc. E6-12166 Filed 7-28-06; 8:45 am]

BILLING CODE 3410-XY-P